DEPARTMENT OF JUSTICE

Notice of Lodging of Consent Decree Under the Comprehensive Environmental Response, Compensation, and Liability Act of 1980

Notice is hereby given that on March 15, 2007 a proposed consent decree in United States v. Charles E. Carlson, Front Range Royalties, Ltd., and Frontenac Mining, Ltd., Civil Action No. 06-cv-00275-WYD-MEH was lodged with the United States District Court for the District of Colorado.

In this action the United States brought claims under Sections 107 and 113(g) of the Comprehensive Environmental Response, Compensation, and Liability Act of 1980 (“CERCLA”), as amended, 42 U.S.C. 9607 and 9613(g), seeking the recovery of costs incurred and to be incurred by the Environmental Protection Agency (“EPA”) in response to releases or threatened releases of hazardous substances at and from the property owned by the Defendants within the Clear Creek Superfund Site, in Gilpin County, Colorado. The ability-to-pay consent decree resolves claims related to acidic drainage and metals loading into Clear Creek resulting from past mining operations on property owned by the defendants. The consent decree, among other things, provides EPA with access to and use of the defendants' property for remedial purposes and requires defendants to sell certain properties and to remit to EPA a percentage of the net sale proceeds up to the judgment amount of up to $200,000.

The Department of Justice will receive for a period of thirty (30) days from the date of this publication comments relating to the consent decree. Comments should be addressed to the Assistant Attorney General, Environment and Natural Resources Division, and either e-mailed to pubcomment-ees.enrd@usdoj.gov or mailed to P.O. Box 7611, U.S. Department of Justice, Washington, DC 20044-7611, and should refer to United States v. Charles E. Carlson, Front Range Royalties, Ltd., and Frontenac Mining, Ltd., Civil Action No. 06-cv-00275-WYD-MEH, D.J. Ref. 90-11-3-08439.

The consent decree may be examined at the U.S. Environmental Protection Agency, Region 8, 1595 Wynkoop Street, Denver, CO 80202-1129. During the public comment period, the consent decree, may also be examined on the following Department of Justice Web site, to http://www.usdoj.gov/enrd/Consent_Decrees.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.50, or $11 with attachments (25 cents per page reproduction cost), payable to the U.S. Treasury or, if by e-mail or fax, forward a check in that amount to the Consent Decree Library at the stated address.

Robert D. Brook,
Assistant Chief, Environmental Enforcement Section, Environment and Natural Resources Division.

[FR Doc. 07-1527 Filed 3-28-07; 8:45 am]

BILLING CODE 4410-15-M